DEPARTMENT OF HOMELAND SECURITY

U.S. Citizenship and Immigration Services

[CIS No. 2760-23; DHS Docket No. USCIS-2023-0013]

RIN 1615-ZC06

Extension of Re-Registration Periods for Extensions of the Temporary Protected Status Designations of El Salvador, Haiti, Honduras, Nepal, Nicaragua, and Sudan

AGENCY: U.S. Citizenship and Immigration Services (USCIS), Department of Homeland Security (DHS).

ACTION: Notice of extension of re-registration periods for extensions of the Temporary Protected Status designations of El Salvador, Haiti, Honduras, Nepal, Nicaragua, and Sudan.

SUMMARY: Through this notice, the Department of Homeland Security (DHS) announces that the Secretary of Homeland Security (Secretary) is extending the re-registration periods for the extensions of the Temporary Protected Status (TPS) designations for El Salvador, Haiti, Honduras, Nepal, Nicaragua, and Sudan from 60 days to the full 18-month designation extension period of each country. Beneficiaries must re-register to receive TPS benefits under the most recent designation extensions for these countries.

DATES: The re-registration period for individuals to submit TPS applications under the designation of:

• El Salvador is July 12, 2023, through March 9, 2025;

• Haiti is January 26, 2023, through August 3, 2024;

• Honduras is November 6, 2023, through July 5, 2025;

• Nepal is October 24, 2023, through June 24, 2025;

• Nicaragua is November 6, 2023, through July 5, 2025; and

• Sudan is August 21, 2023, through April 19, 2025.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 800-375-5283.

• For further information on TPS, including guidance on the registration process and additional information on eligibility, please visit the USCIS TPS web page at https://uscis.gov/tps. You can find specific information about each country's TPS designation by selecting the name of the country from the menu on the left side of the TPS web page.

• If you have additional questions about TPS, please visit https://uscis.gov/tools. Our online virtual assistant, Emma, can answer many of your questions and point you to additional information on our website. If you are unable to find your answers there, you may also call our USCIS Contact Center at 800-375-5283 (TTY 800-767-1833).

• Applicants seeking information about the status of their individual cases may check Case Status Online, available on the USCIS website at uscis.gov, or visit the USCIS Contact Center at https://uscis.gov/contactcenter.

• Further information will also be available at local USCIS offices upon publication of this notice.

SUPPLEMENTARY INFORMATION:

Table of Abbreviations

DHS U.S. Department of Homeland Security

EAD Employment Authorization Document

Form I-765 Application for Employment Authorization

Form I-821 Application for Temporary Protected Status

FR Federal Register

INA Immigration and Nationality Act

Secretary Secretary of Homeland Security

TPS Temporary Protected Status

TTY Text Telephone

USCIS U.S. Citizenship and Immigration Services

Purpose of This Action (TPS)

The re-registration period extensions apply to the following Federal Register notices:

Reconsideration and Rescission of Termination of the Designation of El Salvador for Temporary Protected Status; Extension of the Temporary Protected Status Designation for El Salvador, 88 FR 40282 (June 21, 2023). The 18-month re-registration period now runs from July 12, 2023, through March 9, 2025.

Extension and Redesignation of Haiti for Temporary Protected Status, 88 FR 5022 (January 26, 2023). The re-registration period now runs from January 26, 2023, through August 3, 2024.

Reconsideration and Rescission of Termination of the Designation of Honduras for Temporary Protected Status; Extension of the Temporary Protected Status Designation for Honduras, 88 FR 40304 (June 21, 2023). The 18-month re-registration period now runs from November 6, 2023, through July 5, 2025.

Reconsideration and Rescission of Termination of the Designation of Nepal for Temporary Protected Status; Extension of the Temporary Protected Status Designation for Nepal, 88 FR 40317 (June 21, 2023). The 18-month re-registration period now runs from October 24, 2023, through June 24, 2025.

Reconsideration and Rescission of Termination of the Designation of Nicaragua for Temporary Protected Status; Extension of the Temporary Protected Status Designation for Nicaragua, 88 FR 40294 (June 21, 2023). The 18-month re-registration period now runs from November 6, 2023, through July 5, 2025.

Extension and Redesignation of Sudan for Temporary Protected Status, 88 FR 56864 (August 21, 2023). The re-registration period now runs from August 21, 2023, through April 19, 2025.

Through this notice, DHS sets forth updated re-registration periods from 60 days to 18 months for the extensions of the TPS designations for El Salvador,¹ Haiti,² Honduras,³ Nepal,⁴ Nicaragua,⁵ and Sudan ⁶ as specified in this notice. See section 244 of the Immigration and Nationality Act (INA), 8 U.S.C. 1254a; 8 CFR 244.17. This will allow individuals to submit a re-registration application for TPS and an application for employment authorization documentation (if desired), during the full length of the relevant country's TPS designation extension.

¹ Reconsideration and Rescission of Termination of the Designation of El Salvador for Temporary Protected Status; Extension of the Temporary Protected Status Designation for El Salvador, 88 FR 40282 (June 21, 2023).

² Extension and Redesignation of Haiti for Temporary Protected Status, 88 FR 5022 (Jan. 26, 2023).

³ Reconsideration and Rescission of Termination of the Designation of Honduras for Temporary Protected Status; Extension of the Temporary Protected Status Designation for Honduras, 88 FR 40304 (June 21, 2023).

⁴ Reconsideration and Rescission of Termination of the Designation of Nepal for Temporary Protected Status; Extension of the Temporary Protected Status Designation for Nepal, 88 FR 40317 (June 21, 2023).

⁵ Reconsideration and Rescission of Termination of the Designation of Nicaragua for Temporary Protected Status; Extension of the Temporary Protected Status Designation for Nicaragua, 88 FR 40294 (June 21, 2023).

⁶ Extension and Redesignation of Sudan for Temporary Protected Status, 88 FR 56864 (Aug. 21, 2023).

DHS is extending the re-registration periods for a number of reasons, including that certain beneficiaries have not been required to re-register for TPS for several years due to pending litigation and related continuation of their documentation, confusion within the beneficiary population, and operational considerations for USCIS. Historically, the length of the re-registration period has typically been 60 days.⁷ Beneficiaries of TPS have typically re-registered for TPS within a 60-day period on a recurring basis at the end of their country's designation approximately every 12 to 18 months as announced by Federal Register notices that extended the designation. However, certain beneficiaries under these TPS designations have not been required to re-register for TPS for several years due to a series of DHS-issued Federal Register notices that continued the documentation for beneficiaries of TPS designations for El Salvador, Haiti, Nicaragua, Sudan, Honduras, and Nepal pursuant to ongoing litigation.⁸ Those beneficiaries must re-register to receive TPS benefits under the most recent extensions.

⁷ DHS has previously provided a re-registration period for longer than 60 days. See, e.g., Extension and Redesignation of Haiti for Temporary Protected Status, 76 FR 29000 (May 19, 2011) (providing a 90-day re-registration period for Haiti TPS). Additionally, DHS has previously extended a re-registration period. See, e.g., Extension of the Re-Registration Period for Haiti Temporary Protected Status, 79 FR 25141 (May 2, 2014) (providing an extension of the re-registration period for Haiti TPS in order to maximize re-registration opportunities for eligible beneficiaries. At the time, USCIS had received a low proportion of the expected number of re-registration applications, and stakeholders reported that the low number of re-registration applications may have been due to confusion about the re-registration deadline). Similarly, DHS is providing applicants under these designations extended re-registration periods to address the several year gap in the typical re-registration requirements.

⁸ TPS termination decisions were announced for El Salvador, Haiti, Nicaragua, Sudan, Honduras, and Nepal in 2017-2018. Lawsuits challenging the terminations were filed in the U.S. District Court for the Northern District of California in Ramos v. Nielsen, 326 F. Supp. 3d 1075 (N.D. Cal. 2018), and Bhattarai v. Nielsen, No. 19-cv-00731 (N.D. Cal. Mar. 12, 2019), and in the U.S. U.S. District Court for the Eastern District of New York in Saget v. Trump, 375 F. Supp. 3d 280 (E.D.N.Y. 2019). DHS has taken actions to ensure its continued compliance with the court orders in Ramos and Bhattarai. DHS has published periodic notices to continue TPS and extend the validity of TPS-related documentation previously issued to beneficiaries under the TPS designations for El Salvador, Haiti, Nicaragua, Sudan, Honduras, and Nepal. See 83 FR 54764 (Oct. 31, 2018); 84 FR 7103 (Mar. 1, 2019); 84 FR 20647 (May 10, 2019) (correction notice issued at 84 FR 23578 (May 22, 2019)); 84 FR 59403 (Nov. 4, 2019); 85 FR 79208 (Dec. 9, 2020); 86 FR 50725 (Sept. 10, 2021) (correction notice issued at 86 FR 52694 (Sept. 22, 2021)); 87 FR 68717 (Nov. 16, 2022).

After reevaluating the initial 60-day re-registration periods announced for TPS under the designation extensions for El Salvador, Haiti, Nicaragua, Sudan, Honduras, and Nepal, DHS has determined that it will provide the full designation extension periods for applicants to file their re-registration Form I-821 and Form I-765 to obtain an EAD, if desired. Limiting the re-registration period to 60 days for these particular beneficiaries may place a burden on applicants who are unable to timely file but would otherwise be eligible to re-register for TPS, particularly in light of the ongoing litigation and the resulting overlapping periods of TPS validity announced in several Federal Register notices, which may be confusing to some current beneficiaries. This notice allows beneficiaries of these countries who have not been required to re-register for TPS since their last extension to re-register over the full TPS designation period.⁹ Prior to the currently required re-registration, beneficiaries under these designations ¹⁰ were last required to re-register from July 8, 2016, through September 6, 2016, under El Salvador's designation,¹¹ from May 16, 2016, through July 15, 2016, under Nicaragua's and Honduras's designations,¹² and from October 26, 2016, through December 27, 2016, under Nepal's designation.¹³

⁹ Re-registrants under TPS Haiti and Sudan, including beneficiaries who initially obtained TPS under the 2021 and 2022 designations of TPS for Haiti and Sudan, may file during the entire designation re-registration period as noted in this notice.

¹⁰ Haiti and Sudan were newly designated for TPS in 2021 and 2022, respectively. Prior to the new designation of TPS for Haiti on August 3, 2021, beneficiaries under the Haiti designation were last required to re-register from May 24, 2017, through July 24, 2017. See Extension and Redesignation of Haiti for Temporary Protected Status, 82 FR 23830 (July 23, 2017). Prior to the new designation of TPS for Sudan on April 19, 2022, beneficiaries under the Sudan designation were last required to re-register from January 25, 2016, through March 25, 2016. See Extension and Redesignation of Sudan for Temporary Protected Status, 81 FR 4045 (January 25, 2016).

¹¹ Extension of the Designation of El Salvador for Temporary Protected Status, 81 FR 44645 (July 8, 2016).

¹² Extension of the Designation of Nicaragua for Temporary Protected Status, 81 FR 30325 (May 16, 2016). Extension of the Designation of Honduras for Temporary Protected Status, 81 FR 30331 (May 16, 2016). Following the last extension of TPS for Honduras, former Acting Secretary Elaine Duke did not make a decision on extending or terminating Honduras's TPS designation by the statutory deadline, resulting in an automatic 6-month extension of the designation, through July 5, 2018. See Extension of the Designation of Honduras for Temporary Protected Status, 82 FR 59630 (Dec. 15, 2017). If the Secretary makes no decision on extension or termination of a country's TPS designation by at least 60 days before the expiration of the existing TPS designation, then INA sec. 244(b)(3)(C) requires that the designation be extended an additional six months (or 12 or 18 months in the Secretary's discretion).

¹³ Extension of the Designation of Nepal for Temporary Protected Status, 81 FR 74470 (October 26, 2016).

As discussed previously, due to unique circumstances, including protracted litigation, these TPS beneficiaries have been subject to multiple, overlapping periods of potential TPS validity due to the ongoing litigation. They also have not been required to re-register for several years. Therefore, this extended re-registration period allows this population of beneficiaries to more easily comply with the re-registration requirement, which could avoid placing additional burdens on these re-registrants. In addition, permitting re-registration throughout the entirety of the designation extension period could reduce the operational burden on USCIS; reviewing and adjudicating late-filed re-registration applications that may occur as a result of the 60-day period due to lack of awareness of the re-registration requirement that these particular beneficiaries are more likely to experience because of the protracted litigation and subsequent TPS actions to continue documentation, would require additional resources.

Alejandro N. Mayorkas,
Secretary, U.S. Department of Homeland Security.

[FR Doc. 2023-27342 Filed 12-13-23; 8:45 am]

BILLING CODE 9111-97-P